DEPARTMENT OF THE INTERIOR

Bureau of Land Management

[OR-936-1310-07; HAG-07-0086; WAOR60869]

Notice of Proposed Reinstatement of Terminated Oil and Gas Lease WAOR60869; Washington

AGENCY: Bureau of Land Management, Interior.

ACTION: Notice.

SUMMARY: Under the provisions of 30 U.S.C. 188(d) and (e), and 43 CFR 3108.2-3(a) and (b)(1), the Bureau of Land Management (BLM) received a petition for reinstatement from Meany Land & Exploration, Inc., for competitive oil and gas lease WAOR60869 for lands in Yakima County, Washington. The petition was filed on time and was accompanied by all the rentals due since the date the lease terminated under the law.

FOR FURTHER INFORMATION CONTACT: Donna Kauffman, Land Law Examiner, Minerals Section, BLM Oregon/Washington State Office, PO Box 2965, Portland, Oregon 97208, (503) 808-6162.

SUPPLEMENTARY INFORMATION: The lessee, Meany Land & Exploration, Inc., has agreed to the amended lease terms for rentals and royalties at rates of $10.00 per acre or fraction thereof, per year and 16⅔ percent, respectively. The lessee has paid the required $500 administrative fee and $163 to reimburse the Bureau of Land Management for the cost of this Federal Register notice.

The lessee has met all the requirements for reinstatement of the lease as set out in Section 31(d) and (e) of the Mineral Leasing Act of 1920 (30 U.S.C. 188). Therefore, the Bureau of Land Management is proposing to reinstate lease WAOR60869, effective October 1, 2006, subject to the original terms and conditions of the lease and the increased rental and royalty rates cited above. No other valid lease has been issued affecting the lands.

Patrick H. Geehan,
Chief, Minerals Section.

[FR Doc. E7-5155 Filed 3-20-07; 8:45 am]

BILLING CODE 4310-33-P